DEPARTMENT OF TRANSPORTATION

Federal Aviation Administration

14 CFR Part 26

[Docket No. FAA-2005-21693; Amendment No. 26-4]

RIN 2120-AI32

Damage Tolerance Data for Repairs and Alterations

AGENCY: Federal Aviation Administration, DOT.

ACTION: Final rule; technical amendment.

SUMMARY: The Federal Aviation Administration (FAA) is making minor technical changes to a final rule published in the Federal Register on December 12, 2007. That final rule required holders of design approvals to make damage tolerance data for repairs and alterations to fatigue critical airplane structure available to operators. After issuing the final rule, the FAA determined that further changes were needed to clarify the applicability of certain provisions and the compliance time of another provision.

DATES: Effective Date: Effective on March 12, 2010.

FOR FURTHER INFORMATION CONTACT: For technical questions contact Greg Schneider, Airframe and Cabin Safety Branch, ANM-115, Federal Aviation Administration, 1601 Lind Ave., SW., Renton, Washington 98057-3356; telephone (425) 227-2116; facsimile (425) 227-1232; e-mail Greg.Scheider@faa.gov. For legal questions contact Doug Anderson, Office of the Chief Council, ANM-7, Federal Aviation Administration, 1601 Lind Ave., SW., Renton, Washington 98057-3356; telephone (425) 227-2166; facsimile (425) 227-1007; e-mail Douglas.Anderson@faa.gov.

SUPPLEMENTARY INFORMATION: The Federal Aviation Administration (FAA) published a final rule in the Federal Register on December 12, 2007 (72 FR 70486), which amended 14 CFR parts 26, 121, and 129. That final rule requires holders of design approvals to make available to operators damage tolerance (DT) data for repairs and alterations to fatigue critical airplane structure. After issuing the final rule, the FAA determined that minor technical changes are needed to clarify the intent of and compliance with § 26.43(e) and § 26.45(b)(1) and (e)(1).

Change to § 26.43(e)

The change to § 26.43(e) clarifies that this section does not apply to type certificate (TC) holders of pending or future type certified airplane models, including any airplane model type certified after January 11, 2008. This change is relieving to TC holders and does not impact a TC holder's ability to comply with § 26.43(e). The FAA did not intend to require TC holders to develop repair evaluation guidelines (REG) for pending or future type certified airplane models. The purpose of the REG is to enable operators to obtain DT data for existing repairs for which DT data has not already been provided. Section 26.43(b), (c), and (d) already require all TC holders to develop and make available to operators DT data for all future repairs they develop that affect fatigue critical baseline structure. Operators, therefore, will have the DT data for TC holder repairs necessary to support their compliance with 14 CFR 121.1109(c)(2) of the Aging Airplane Safety rule. For repairs developed by the operator or third parties, operators are responsible for developing or obtaining the necessary DT data to comply with the certification bases for these airplanes; it would not be appropriate to impose this obligation on the TC holder.

Change to § 26.45(b)

The change to § 26.45(b)(1) clarifies that § 26.45(b)(1) applies to both existing and future alterations and corrects an inconsistency with § 26.45(b). This change does not require additional work, since § 26.45(b) already applies to existing and future alterations.

Change to § 26.45(e)(1)

The change to § 26.45(e)(1) provides an appropriate compliance time for submitting a list of fatigue critical alteration structure for alteration data approved on or after January 11, 2008. This change is relieving and necessary to correct an oversight in the original regulatory text, which inadvertently imposes a compliance time that cannot be met for future alterations. For alteration data approved on or after January 11, 2008, this change would require that the list of fatigue critical structure be submitted before the alteration data is approved.

Justification for Immediate Adoption

Since this action is relieving to holders of type certificates and clarifies the intent of the regulations, the FAA finds that notice and public comment under 5 U.S.C. 553(d) is unnecessary. For the same reason, the FAA finds good cause exists under 5 U.S.C. 553(d) for making this rule effective upon publication.

Technical Amendment

The technical amendment clarifies the applicability of § 26.43(e) and the scope of § 26.45(b)(1). This technical amendment also adds to § 26.45(e)(1) an appropriate compliance time for submitting fatigue critical alteration structure for alteration data approved on or after January 11, 2008.

List of Subjects in 14 CFR Part 26

Aircraft, Aviation safety, Continued airworthiness.

Accordingly, Title 14 of the Code of Federal Regulations (CFR) part 26 is amended as follows:

PART 26—CONTINUED AIRWORTHINESS AND SAFETY IMPROVEMENTS FOR TRANSPORT CATEGORY AIRPLANES

1. The authority citation for part 26 continues to read as follows:

Authority: 49 U.S.C. 106(g), 40113, 44701-44702, 44704.

2. Amend § 26.43 by revising paragraph (e) introductory text to read as follows:

§ 26.43 Holders of and applicants for type certificates—Repairs.

* * * * *

(e) Repair evaluation guidelines. Except for airplane models whose type certificate is issued after January 11, 2008, holders of a type certificate for each airplane model subject to this section must—

* * * * *

3. Amend § 26.45 by revising paragraphs (b)(1) and (e)(1) to read as follows:

§ 26.45 Holders of type certificates—Alterations and repairs to alterations.

* * * * *

(b) * * *

(1) Review alteration data and identify all alterations that affect fatigue critical baseline structure identified under § 26.43(b)(1);

* * * * *

(e) * * *

(1) The list of fatigue critical alteration structure identified under paragraph (b)(3) of this section must be submitted—

(i) No later than 360 days after January 11, 2008, for alteration data approved before January 11, 2008.

(ii) No later than 30 days after March 12, 2010 or before initial approval of the alteration data, whichever occurs later, for alteration data approved on or after January 11, 2008.

* * * * *

Issued in Washington, DC, on March 9, 2010.
Julie A. Lynch,
Acting Director, Office of Rulemaking.

[FR Doc. 2010-5470 Filed 3-11-10; 8:45 am]

BILLING CODE 4910-13-P